DEPARTMENT OF COMMERCE

National Oceanic and Atmospheric Administration

[I.D. 022200G]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Law Enforcement Advisory Panel (LEAP).

DATES: This meeting will be held on March 15, 2000, from 1:00 p.m. to 5:00 p.m.

ADDRESSES: This meeting will be held at the Perdido Beach Resort, 27200 Perdido Beach Boulevard, Orange Beach, AL 36561; telephone: 334-981-9811.

Council address: Gulf of Mexico Fishery Management Council, 3018 U.S. Highway 301 North, Suite 1000, Tampa, FL 33619.

FOR FURTHER INFORMATION CONTACT: Richard Leard, Senior Fishery Biologist, Gulf of Mexico Fishery Management Council; telephone: 813-228-2815.

SUPPLEMENTARY INFORMATION: The LEAP will convene to review the Draft Gulf of Mexico Law Enforcement Strategic and Operations Plan, 2000-2005 that has been develop jointly by the LEAP and the Law Enforcement Committee (LEC) of the Gulf States Marine Fisheries Commission. This document contains a set of goals and objectives that the LEAP/LEC would like to accomplish during this 5-year period. The LEAP will also review the law enforcement data collection, tracking and dissemination procedures by state and federal law enforcement agencies involved with marine fisheries enforcement in the Gulf. The LEAP will also hold a conference-call discussion with law enforcement personnel on the Atlantic coast in pursuit of establishing a National Conservation Crime Information System. Reports on the status of fishery management plans, amendments, and other regulatory actions, as well as state and Federal law enforcement activities will also be received.

The LEAP consists of principal law enforcement officers in each of the Gulf states as well as NMFS, the U.S. Coast Guard, and the NOAA General Counsel. A copy of the agenda and related materials can be obtained by calling the Council office at 813-228-2815.

Although other non-emergency issues not on the agendas may come before the LEAP for discussion, in accordance with the Magnuson-Stevens Fishery Conservation and Management Act, those issues may not be the subject of formal action during these meetings. Actions of the LEAP will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by March 8, 2000.

Dated: February 23, 2000.
Bruce C. Morehead,
Acting Director, Office of Sustainable Fisheries, National Marine Fisheries Service.

[FR Doc. 00-4772 Filed 2-28-00; 8:45 am]

BILLING CODE 3510-22-F